DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Kartik Prabhakaran, University of Pittsburgh: Based on the report of an inquiry conducted by the University of Pittsburgh (UP), extensive oral and written admissions by the Respondent, and additional analysis conducted by the Office of Research Integrity (ORI) during its oversight review, the U.S. Public Health Service (PHS) found that Mr. Kartik Prabhakaran, former graduate student in the joint M.D./Ph.D. program at UP, engaged in research misconduct while supported by National Institutes of Neurological Disorders and Stroke (NINDS), National Institutes of Health (NIH), grant F30 NS50905-01 and National Eye Institute (NEI), NIH, grants 5 R01 EY005945, 5 P30 EY008098, and 5 R01 EY015291.

Specifically, Mr. Prabhakaran falsified and fabricated data that was included in a PowerPoint presentation and in a paper published in Immunity (Immunity 23:515-525, November 2005). Mr. Prabhakaran's research misconduct occurred while he was a student in the M.D./Ph.D. program for UP's School of Medicine. He is no longer in UP's Ph.D. program but is still enrolled in its M.D. program in the School of Medicine. The Immunity publication has been retracted (Immunity 24:657, May 2006).

Mr. Prabhakaran has entered into a Voluntary Exclusion Agreement in which he has voluntarily agreed, for a period of four (4) years, beginning on March 15, 2007:

(1) To exclude himself from serving in any advisory capacity to PHS, including but not limited to service on any PHS advisory committee, board, and/or peer review committee, or as a consultant; and

(2) That any institution that submits an application for PHS support for a research project on which Mr. Prabhakaran's participation is proposed, that uses him in any capacity on PHS supported research, or that submits a report of PHS-funded research in which he is involved must concurrently submit a plan for supervision of his duties to the funding agency for approval. The supervisory plan must be designed to ensure the scientific integrity of his research contribution. Mr. Prabhakaran agreed to ensure that a copy of the supervisory plan also is submitted to ORI by the institution. Mr. Prabhakaran agreed that he will not participate in any PHS-supported research until such a supervision plan is submitted to ORI.

FOR FURTHER INFORMATION CONTACT: Director, Division of Investigative Oversight, Office of Research Integrity, 1101 Wootton Parkway, Suite 750, Rockville, MD 20852, (240) 453-8800.

Chris B. Pascal,
Director, Office of Research Integrity.

[FR Doc. E7-9735 Filed 5-18-07; 8:45 am]

BILLING CODE 4150-31-P